DEPARTMENT OF HEALTH AND HUMAN SERVICES

Administration for Children and Families

Submission for Office of Management and Budget (OMB) Review; Revisions to Recordkeeping To Mitigate the Spread of COVID-19 in Head Start (OMB #: 0970-0583)

AGENCY: Office of Head Start; Administration for Children and Families; Department of Health and Human Services.

ACTION: Request for public comments.

SUMMARY: The Office of Head Start (OHS), Administration for Children and Families (ACF), U.S. Department of Health and Human Services, requests public comment on an extension with changes to recordkeeping requirements for ACF Head Start grant recipients. A Final Rule published on January 6, 2023, added a recordkeeping requirement that Head Start grant recipients update their program policies and procedures to include an evidence-based COVID-19 mitigation policy. OHS requested and received emergency approval from OMB to implement the updated recordkeeping requirement as required in the Final Rule. Approval was for 6 months. Subsequently, a final rule was published on June 26, 2023, which removed all previously approved vaccination recordkeeping requirements and the requirement to maintain a testing protocol. This request is to remove these requirements from the information collection and extend approval of the remaining recordkeeping requirement under this OMB number for an additional 3 years.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The final rule on January 6, 2023, added a requirement that Head Start grant recipients update their program policies and procedures to include an evidence-based COVID-19 mitigation policy developed in consultation with their Health Services Advisory Committee. This is the only remaining recordkeeping requirement in this information collection. Vaccination and testing protocol recordkeeping requirements and associated burdens have been removed.

Respondents: Recipients of Head Start funding.

Annual Burden Estimates
Instrument | Total number of respondents | Responses per respondent | Average burden hours per response | Annual burden hours
Grant Recipient Updating Program Policies and Procedures | 160 | 1 | 2 | 320

Authority: 45 CFR part 1302.

Mary B. Jones,
ACF/OPRE Certifying Officer.

[FR Doc. 2023-13893 Filed 6-29-23; 8:45 am]

BILLING CODE 4184-40-P